DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 79 FR 25867-25874, dated May 6, 2014) is amended to reflect the reorganization of the National Center for Health Statistics.

Section C-B, Organization and Functions, is hereby amended as follows:

Delete in its entirety the title and the mission and function statements for the Office of Management and Operations (CPC12) and insert the following:

Office of Management and Operations (CPC12). (1) Participates in the development of policy, long-range plans, and programs of the National Center for Health Statistics (NCHS); (2) plans, coordinates, directs, and provides advice and guidance on management and administrative operations of NCHS in the areas of fiscal management, human capital, employee development, travel, records management, information management, and other administrative related services; (3) manages and coordinates NCHS requirements related to contracts, grants, cooperative agreements, interagency agreement, and reimbursable agreements; (4) reviews the effectiveness and efficiency of the operation and administration of all programs of the Center; (5) conducts management and organizational analyses as well as provides consultation and advice on program reorganizations; (6) plans, directs, and coordinates building support services and work life activities of NCHS; and (7) serves as the Collective Bargaining Official for NCHS.

Building Operations and Services Staff (CPC122). (1) Plans, directs, and coordinates facilities support and worklife functions for NCHS; (2) maintains liaison and assures compliance with federal, state, and local government emergency, environmental, postal, safety, security, and health regulations; (3) develops and implements facilities related policies and procedures to maintain compliancy, increase efficiency, and improve customer service; (4) manages facility operations including building maintenance, custodial, lease enforcement, facility improvements, and parking; (5) manages the government vehicle program; (6) manages the NCHS sustainability program to promote environmental, conservation, and recycling stewardship in the workplace; (7) manages logistics support for on-site conferences, meetings, seminars, ceremonies, and other special events; (8) manages the safety program to assure compliancy and to prevent unsafe work practices; (9) manages physical security operations, including; the security guard oversight to safeguard personnel, personal property, equipment, and building resources; (10) manages the personnel identification badge function and serves as the Centers for Disease Control and Prevention (CDC) regional Personal Identification Verification Card Issuing Facility for issuing the Smartcard; (11) manages the continuity of operations plan to ensure the capability of carrying out essential functions during the lack of access to the primary work facility; (12) manages the lifecycle of personal property, furniture, and equipment to include repair, replacement, loan, donation, and disposition; (13) manages mail center operations and receiving and shipping activities; (14) manages Center-wide copying service; and (15) manages work life activities to support healthy choices and behaviors in the workplace for improving the health and resilience of all employees.

Business Logistics Staff (CPC123). (1) Facilitates the development, issuance, and implementation of NCHS administrative policies and standard operating procedures; (2) performs assessments to identify and address policy and procedures gaps, and provides advice and guidance on policies and procedures that impact NCHS; (3) serves as the NCHS liaison with the CDC Management Analysis and Services Office regarding delegations of authority, policy and procedures development, internal controls, records and forms management; (4) manages the NCHS records management program; (5) provides Administrative Officer support services to NCHS offices and divisions; (6) coordinates program and administrative delegations of authority for NCHS and develops appropriate delegating documents; (7) serves as the NCHS liaison with the CDC Ethics Program Activity; (8) develops and disseminates administrative communications via email announcements, web (intranet) and electronic publications; (9) develops and maintains the NCHS business services intranet Web site(s); (10) develops, conducts, and coordinates NCHS management and business process studies and internal control activities and makes recommendations for improved business service processes; (11) provides oversight, guidance, and coordination of acquisition activities for NCHS; (12) serves as the Centers liaison to the CDC Procurement and Grants Office, providing guidance and assistance to NCHS offices and divisions on the development and administration of contracts, grants, cooperative agreements, interagency agreements and memorandums of understanding; (13) maintains the official NCI-IS library of administrative policies and procedures; (14) provides electronic form services for NCHS, including development and inventory management of NCI-IS administrative forms; (15) manages and coordinates domestic and international travel activities for NCHS, NCHS, providing guidance on policy and procedures related to travel and providing support for transportation, change of station and travel cards; (16) serves as the NCHS liaison with the CDC Office of the Associate Director for Communication for the development and dissemination of electronic announcements; and (17) manages the conference clearance and approval process for NCHS.

Workforce and Career Development Staff (CPC124). (1) Serves as advisor and manages human capital activities for NCHS that will improve the Center's organizational effectiveness, employee morale, motivation, and productivity; (2) develops and implements NCHS internal administrative human capital related policies and procedures as appropriate for NCHS and maintains liaison with related staff offices and other officials of CDC; (3) coordinates and manages the NCHS incentive and honor award programs including planning and coordinating the annual NCHS Director's Awards Ceremony; (4) coordinates and manages the NCHS performance appraisal system in accordance with Office of Personnel Management, Department of Health and Human Services, and CDC policies, procedures and regulations; (5) coordinates the processing of personnel actions and activities in the areas of recruitment, staffing and retention of NCHS staff; (6) provides advice and guidance on strategies and tools available to effectively recruit, retain and plan for succession of staff knowledge and skills; (7) directs organizational development activities for NCHS that focus on skill assessment, career counseling, training administration, workforce planning and conflict management; (8) provides advice, guidance and assistance to NCHS on the establishment or modification of position development, organizational structure and functional assignments; (9) coordinates the administration of the NCHS fellowship and intern program; (10) serves as the NCHS diversity champion for NCHS and oversees the implementation of diversity initiatives; (11) coordinates and manages telework and transhare programs; (12) manages the new employee orientation process; (13) serves as liaison with the HRO and NCHS supervisors on employee and labor relations activities; (14) coordinates and provides advice and guidance on a variety of administrative functions related to pay and leave administration; (15) coordinates all activities related to personnel security, ensuring that all employees complete the proper security clearances; and (16) serves as the liaison with the Office of Commissioned Corps Personnel for NCHS Commissioned Officers.

Delete in its entirety the title and the mission and function statements for the Office of Information Technology (CPC17) and insert the following:

Office of Information Technology (CPC17). (1) Directs, plans and coordinates information technology services for NCHS; (2) serves as the focal point for information technology (IT) research activities for NCHS-wide systems and in that capacity represents NCHS in developing technology partnerships with other agencies, both public and private; (3) maintains knowledge of strategic business processes in the private and public sector, and leads the development of information technology policy planning for NCHS; (4) provides for the development and implementation of the Information Technology Plan for NCHS and directs the maintenance of the information technology architecture of NCHS; (5) serves as the focal point for the NCHS Information Technology Advisory Board and its working groups and serves as a clearinghouse for IT information on issues under consideration by the Board; (6) conducts applied research studies on existing and emerging information technologies and methodologies, and their applicability to NCHS critical business needs; (7) provides information resources management policy coordination for the Center and systems contract support; (8) represent NCI-IS to other public and private health agencies, foundations and statistical agencies on information technology activities; (9) provides software consultation, data base management, research, design, and support services needed by NCHS survey, registration and administrative systems, emphasizing projects which are not program specific; (10) plans, coordinates and conducts the NCHS computer training activities to enhance the use of information technologies and methodologies by Center staff; (11) manages and administers contracts for Center-wide emerging information technology services; and (12) actively participates with state, national and international agencies, associations, foundations and working groups involved in emerging technologies to enhance the IT environment between NCHS and its partners.

Office of the Director (CPC171). (1) In partnership with NCHS programs, devises IT practices and procedures and provides direction, planning and evaluation for overall information technology services and infrastructure at NCHS; (2) identifies needs and makes recommendations for procurement of technology and services to support NCHS activities; (3) evaluates and recommends new information technology software and methods in support of NCHS programs; (4) serves as the primary point of contact in NCHS to represent the Center's IT infrastructure service needs to the CDC Information Technology Services Office (ITSO); (5) develops and administers an annual planning process to identify all requirements of NCHS programs for new IT Infrastructure products and services; (6) maintains close collaboration with CDC (ITS) and coordinates capital planning and business case development for NCHS IT investments; (7) provides continuous evaluation of the NCHS IT program to certify adherence to all HI-IS Enterprise Architecture and CDC IT infrastructure policies, and technical standards; (8) provides technical assistance and information exchange services regarding NCHS information technology activities to federal, state and local, public and private organizations; and (9) represents NCHS at national and international meetings regarding emerging information technologies and methodologies.

Information Technology Solutions and Services Staff (CPC172). (1) Conducts and evaluates studies on emerging technologies as input to the information resource management planning process and serves as a clearinghouse on these emerging technologies for NCHS; (2) consults and advises for IT project management, information assurance services (e.g., cyber-security, certification and accreditation), and software life-cycle development that enable NCHS business delivery; (3) develops information technology solutions to bridge gaps between enterprise systems, business requirements and program solutions; (4) develops practices and procedures for NCHS information technology services and solution architectures; (5) partners with NCHS Offices and Divisions, outside agencies and the states, to pilot technology solutions that satisfy emerging business requirements for data access, storage, and dissemination; (6) develops and implements NCHS IT strategic planning processes to identify new requirements and to validate existing requirements for IT products and services; (7) provides technical consultation to NCHS Offices/Divisions for contracting of information management services, including solution development and integration of technology innovation; (8) chairs the NCHS Information Resource Governance Board; (9) participates in workgroups, committees and other collaborations that advance information exchange between NCHS and its partners and advancement of technology solutions through state, national and international informatics initiatives; and (10) advises and organizes IT user groups to advance the value of communities of interest/practice in support of IT innovation.

Dated: May 27, 2014.
Sherri A. Berger,
Chief Operating Officer, Centers for Disease Control and Prevention.

[FR Doc. 2014-13074 Filed 6-5-14; 8:45 am]

BILLING CODE 4160-18-M